DEPARTMENT OF ENERGY

High Energy Physics Advisory Panel Meeting

AGENCY: Office of Science, Department of Energy.

ACTION: Notice of open meeting.

SUMMARY: This notice announces a hybrid open meeting of the DOE/NSF High Energy Physics Advisory Panel (HEPAP). The Federal Advisory Committee Act requires that public notice of these meetings be announced in the Federal Register.

DATES:

Thursday, December 7, 2023; 9 a.m. to 5 p.m. (eastern time).

Friday, December 8, 2023; 9 a.m. to 2 p.m. (eastern time).

ADDRESSES: Renaissance Washington, DC Downtown Hotel, 999 9th Street NW, Washington, DC 20001. This meeting is open to the public. Participation through Zoom will also be available. Information to participate can be found on the website closer to the meeting date at https://science.osti.gov/hep/hepap/meetings/.

FOR FURTHER INFORMATION CONTACT: John Kogut, Designated Federal Officer (DFO); High Energy Physics Advisory Panel (HEPAP); U.S. Department of Energy; Office of Science; SC-35/Germantown Building, 1000 Independence Avenue SW, Washington, DC 20585; Telephone: (301) 903-1298; Email: John.Kogut@science.doe.gov.

SUPPLEMENTARY INFORMATION:

Purpose of Meeting: To receive, discuss and vote on the Particle Physics Project Prioritization Panel (P5) panel report describing an updated strategic plan for U.S. high-energy physics for the next ten years. To receive a Charge to form a Committee of Visitors to evaluate the Facilities Division of the Office of High Energy Physics. To discuss a coordinating panel on Software and Computing for High Energy Physics.

Tentative Agenda

• Update from DOE

• Update from NSF

• Presentation of Charge to HEPAP to form a Committee of Visitors to evaluate the Facilities Division of the Office of High Energy Physics

• A Coordinating Panel for Software and Computing

• Presentation of the P5 Report

• Discussion and voting on the P5 Report

• Communications with the Particle Physics Community

Public Participation: The meeting is open to the public. A webcast of this meeting will be available. Please check the website below for updates and information on how to view the meeting. If you would like to file a written statement with the Committee, you may do so either before or after the meeting. If you would like to make oral statements regarding any of these items on the agenda, you should contact John Kogut, (301) 903-1298 or by email at John.Kogut@science.doe.gov. You must make your request for an oral statement at least five business days before the meeting. Reasonable provisions will be made to include the scheduled oral statements on the agenda. The Chairperson of the Panel will conduct the meeting to facilitate the orderly conduct of business. Public comment will follow the 10-minute rule.

Minutes: The minutes of the meeting will be available on the High Energy Physics Advisory Panel website at https://science.osti.gov/hep/hepap/meetings/.

Signed in Washington, DC, on October 19, 2023.
LaTanya Butler,
Deputy Committee Management Officer.

[FR Doc. 2023-23495 Filed 10-24-23; 8:45 am]

BILLING CODE 6450-01-P